DEPARTMENT OF COMMERCE

National Oceanic and Atmospheric Administration

Membership of the National Oceanic and Atmospheric Administration Performance Review Board

AGENCY: National Oceanic and Atmospheric Administration (NOAA), Department of Commerce (DOC).

ACTION: Notice of membership of the NOAA Performance Review Board.

SUMMARY: NOAA announces the appointment of members who will serve on the NOAA Performance Review Board (PRB). The NOAA PRB is responsible for reviewing performance appraisals and ratings of Senior Executive Service (SES), Senior Level (SL), and Scientific and Professional (ST) members and making written recommendations to the appointing authority on retention and compensation matters, including performance-based pay adjustments, awarding of bonuses, and reviewing recommendations for potential Presidential Rank Award nominees. The appointment of members to the NOAA PRB will be for a period of two (2) years.

DATES: The ten appointees to the NOAA Performance Review Board were applicable October 15, 2019.

FOR FURTHER INFORMATION CONTACT: James Triem, Director, Executive Resources Division, Office of Human Capital Services, NOAA, 1305 East-West Highway, Silver Spring, Maryland 20910, (301) 628-1882.

SUPPLEMENTARY INFORMATION: The names and positions of the members for the 2019 NOAA PRB are set forth below:

• Irene Parker, Chair: Assistant Chief Information Officer, National Environmental Satellite, Data, and Information Service, NOAA

• Deborah H. Lee, Vice-Chair: Director, Office of Great Lakes Environmental Research Laboratory, Office of Oceanic and Atmospheric Research, NOAA

• Kevin Kimball: Chief of Staff, National Institute of Standards and Technology

• Kevin Wheeler: Deputy Chief of Staff for Policy, National Oceanic and Atmospheric Administration

• James A. St. Pierre: Deputy Director, Information Technology Laboratory, National Institute of Standards and Technology

• Albert B. Spencer: Chief Engineer, National Weather Service, NOAA

• Mary S. Wohlgemuth: Director, National Centers for Environmental Information, National Environmental Satellite Data, and Information Service, NOAA

• David Holst: Chief Financial Officer, Office of Oceanic and Atmospheric Research, NOAA

• John S. Luce, Jr.: General Counsel, NOAA

• Steve Thur: Director, National Center for Coastal Ocean Services, National Ocean Service, NOAA

• David Michaud: Director, Office of Central Processing, National Weather Service, NOAA

• Deidre Jones: Chief Administrative Officer, Office of the Chief Administrative Officer, NOAA

Dated: October 10, 2019.
Neil A. Jacobs,
Assistant Secretary of Commerce for Environmental Observation and Prediction, Performing the Duties of Under Secretary of Commerce for Oceans and Atmosphere.

[FR Doc. 2019-22629 Filed 10-18-19; 8:45 am]

BILLING CODE 3510-12-M